DEPARTMENT OF COMMERCE

Bureau of the Census

15 CFR Part 70

[Docket Number 020103004-2004-01]

Cutoff Dates for Recognition of Boundary Changes for Census 2000 and for the Intercensal Period

AGENCY: Bureau of the Census, Commerce.

ACTION: Proposed rule and request for comments.

SUMMARY: The Bureau of the Census (Census Bureau) is establishing cutoff dates for recognition of boundary changes to geographic entities for which the Census Bureau reports data in various surveys, estimates, censuses, programs, compilations, and publications throughout the period between decennial censuses (years 2001 through 2009). These operations include, but are not limited to, the American Community Survey, the Population Estimates Program, and the 2002 and 2007 Economic Censuses. The Census Bureau establishes cutoff dates for including boundary changes to be used in tabulating data from these operations; such cutoff dates were last established for Census 2000. For the tabulation and dissemination of data from its intercensal operations, the Census Bureau will recognize only those boundaries legally in effect on January 1 of the survey, estimate, or census year that have been reported officially to the Census Bureau no later than April 1 of the same year.

DATES: Any comments, suggestions, or recommendations concerning this proposed rule should be submitted in writing by February 25, 2002.

ADDRESSES: Address all written comments to the Director, U.S. Census Bureau, Room 2049, Federal Building 3, Washington DC 20233-0001.

FOR FURTHER INFORMATION CONTACT: Robert W. Marx, Chief, Geography Division, 4700 Silver Hill Road, Stop 7400, U.S. Census Bureau, Washington, DC 20233-7400, telephone (301) 457-2131, or e-mail (rmarx@geo.census.gov).

SUPPLEMENTARY INFORMATION: The Census Bureau proposes to amend Title 15, Code of Federal Regulations (CFR), part 70, to establish cutoff dates for recognition of boundary changes for all geographic data operations throughout the intercensal period (years 2001 through 2009). This amendment is necessary because the dates established for Census 2000 on March 3, 1998, (63 FR 10303) do not cover the intercensal period. For the intercensal period, the Census Bureau will recognize only those boundaries legally in effect on January 1 of the survey, estimate, or census year that have been reported officially to the Census Bureau no later than April 1 of the same year.

Administrative Procedure Act

Because this rule makes only procedural changes to Title 15, CFR, part 70, the Administrative Procedure Act does not require the Census Bureau to issue a proposed rule and request for comments (Title 5, United States Code (U.S.C.), section 553(b)(3)(A)). Nevertheless, the Census Bureau is doing so in order to ensure that the public is given a forum to provide any comments or raise any issues.

Regulatory Flexibility Act

Prior notice and an opportunity for public comment are not required by 5 U.S.C. 553, or any other law, so a Regulatory Flexibility Analysis is not required and has not been prepared (5 U.S.C. 603(a)).

Executive Orders

This rule has been determined to be not significant for purposes of Executive Order 12866. It has been determined that this rule does not contain policies with Federalism implications as that term is defined in Executive Order 13132.

Paperwork Reduction Act

This rule does not contain a collection of information subject to the requirements of the Paperwork Reduction Act, Title 44, U.S.C., Chapter 35.

List of Subjects in 15 CFR Part 70

Census data.

For the reasons set forth in the preamble, Part 70 is amended as follows:

PART 70—CUTOFF DATES FOR RECOGNITION OF BOUNDARY CHANGES FOR CENSUS 2000 AND FOR THE INTERCENSAL PERIOD

1. The authority citation for Part 70 continues to read as follows:

Authority: 13 U.S.C. 4 and Department of Commerce Organization Order 35-2A (40 FR 42765).

2. Revise the heading of Part 70 to read as set forth above.

3. Amend §70.1 by revising the second sentence and by adding a third sentence to read as follows:

§ 70.1 Cutoff dates and effect on enumeration and data tabulation.

* * * The Bureau of the Census enumerates respondents on the date of the decennial census as residing within the legal limits of municipalities, county subdivisions, counties, states, federal and state American Indian reservations and federal off-reservation trust land, Alaska Native Regional Corporations, Hawaiian home lands, and equivalent entities as those limits legally exist on January 1, 2000. For the tabulation and publication of data from its surveys, estimates, censuses, and other operations during the intercensal period (years 2001 through 2009), the Bureau of the Census will recognize only those boundaries legally in effect on January 1 of the survey, estimate, or census year that have been reported officially to the Bureau of the Census no later than April 1 of the same year.

4. Amend § 70.2 by revising the second sentence and by adding a third sentence to read as follows:

§ 70.2 “Municipality and “county subdivision” defined for census purposes.

* * * A more complete description appears on pages A-13, A-14, A-18 and A-19 of Appendix A, Geographic Terms and Concepts, which appear in the Census 2000 printed reports (PHC-1, Summary Population and Housing Characteristics; PHC-2, Summary Social, Economic, and Housing Characteristics; and PHC-3, Population and Housing Unit Totals). The same text (Appendix A, Geographic Terms and Concepts) also is available online under Technical Documentation, Summary File 1, 2000 Census of Population and Housing.

5. Amend §70.3 by adding both a third and fourth sentence to read as follows:

§ 70.3 Effect of boundary changes occurring or reported after the cutoff dates.

* * * For the tabulation and publication of data from surveys, estimates, censuses, and other operations during the intercensal period (years 2001 through 2009), the Census Bureau will not recognize changes in boundaries that become effective after January 1 of the survey, estimate, or census year. The Census Bureau will not recognize changes in boundaries occurring on or before January 1 of the survey, estimate, or census year, if reported officially to the Census Bureau after April 1 of the same year.

Dated: January 8, 2002.
William G. Barron, Jr.,
Acting Director, Bureau of the Census.

[FR Doc. 02-1815 Filed 1-24-02; 8:45 am]

BILLING CODE 3510-07-P